DEPARTMENT OF ENERGY

Federal Energy Regulatory Commission

[Project No. 77-298]

Pacific Gas and Electric Company; Notice of Authorization for Continued Project Operation

Pacific Gas and Electric Company's (PG&E) 9.959-megawatt Potter Valley Project No. 77 is located on the Eel and East Fork Russian Rivers in Lake and Mendocino Counties, California. The license for the Potter Valley Project was issued to PG&E for a period ending April 14, 2022.

Section 15(a)(1) of the Federal Power Act (FPA), 16 U.S.C. 808(a)(1), requires the Commission, at the expiration of a license term, to issue from year-to-year an annual license to the then licensee under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the project is subject to section 15 of the FPA, notice is hereby given that an annual license for the Potter Valley Project is issued to PG&E for a period effective April 15, 2022, through April 14, 2023 or until the issuance of a new license for the project or other disposition under the FPA, whichever comes first. If issuance of a new license (or other disposition) does not take place on or before April 14, 2023, notice is hereby given that, pursuant to 18 CFR 16.18(c), an annual license under section 15(a)(1) of the FPA is renewed automatically without further order or notice by the Commission, unless the Commission orders otherwise.

If the project is not subject to section 15 of the FPA, notice is hereby given that PG&E is authorized to continue operation of the Potter Valley Project, until such time as the Commission orders disposition of the project.

Dated: April 21, 2022.
Debbie-Anne A. Reese,
Deputy Secretary.

[FR Doc. 2022-08941 Filed 4-26-22; 8:45 am]

BILLING CODE 6717-01-P